NATIONAL SCIENCE FOUNDATION

Advisory Committee for Biological Sciences; Notice of Meeting

In accordance with the Federal Advisory Committee Act (Pub., L. 92-463, as amended), the National Science Foundation (NSF) announces the following meeting:

Name and Committee Code: Advisory Committee for Biological Sciences (#1110).

Date and Time: May 8—9, 2024; 9:00 a.m.—5:00 p.m. (Eastern).

Place: NSF, 2415 Eisenhower Avenue, Alexandria, VA 22314.

This is a hybrid meeting with advisory committee members participating in-person and virtually. Livestreaming is available for members of NSF and the external community via the following links:

May 8, 2024: https://youtube.com/live/4ve0DsdeUmk?feature=share

May 9, 2024: https://youtube.com/live/4ve0DsdeUmk?feature=share

Type of Meeting: Open.

Contact Persons: Dr. Karen C. Cone, National Science Foundation, 2415 Eisenhower Avenue, Alexandria, VA 22314; Telephone: (703) 292-4967; Email: kccone@nsf.gov.

Purpose of Meeting: The Advisory Committee for the Directorate for Biological Sciences (BIO) provides advice and recommendations concerning major program emphases, directions, and goals for the research-related activities of the divisions that make up BIO.

Agenda: Agenda items will include: a Directorate business update; report on BIO's response to the Committee of Visitors Report for the Division of Environmental Biology; report from the Working Group for the Long Term Environmental Research Program on future program priorities; overview of the report, `Vision, Needs, and Proposed Actions for the Data for the Bioeconomy Initiative', overview of BIO support for data resources and synthesis centers, panel discussion on the intersection of artificial intelligence (AI) and biological research followed by AC discussion of opportunities and bottlenecks for advancing this intersection, a review of BIO funding metrics relevant to BIO's shift to no-deadlines for core programs, a review of BIO investments and outreach in EPSCoR states relevant to the CHIPs and Science Act mandates for increased NSF funding for institutions in EPSCoR jurisdictions, an overview from the Committee for Equal Opportunity in Science and Engineering on their 2023 Report on Rural STEM, and other directorate matters.

Dated: April 4, 2024.
Crystal Robinson,
Committee Management Officer.

[FR Doc. 2024-07524 Filed 4-8-24; 8:45 am]

BILLING CODE 7555-01-P